DEPARTMENT OF AGRICULTURE

Rural Utilities Service

Broadband Pilot (ReConnect) Program

AGENCY: Rural Utilities Service, USDA.

ACTION: Notification.

SUMMARY: On December 12, 2019, the Rural Utilities Service (RUS), a Rural Development agency of the United States Department of Agriculture, hereinafter referred to as the Agency, published a Funding Opportunity Announcement (FOA) and solicitation of applications for the Broadband Pilot (ReConnect) Program in the Federal Register. On March 31, 2020, the Agency published a Notice in the Federal Register to extend the application window to April 15, 2020. This notice supplements the prior notice of March 31, 2020, and informs the public that the Coronavirus Aid, Relief, and Economic Security Act (CARES Act) provides an additional $100 million for ReConnect grants to prevent, prepare for, and respond to coronavirus.

DATES: This policy is effective April 10, 2020.

FOR FURTHER INFORMATION CONTACT: Laurel Leverrier, Acting Assistant Administrator Telecommunications Program, Rural Utilities Service, U.S. Department of Agriculture (USDA), email: laurel.leverrier@wdc.usda.gov, telephone (202) 720-9554. For general inquiries regarding the ReConnect Program Staff at https://www.usda.gov/reconnect/contact-us.

SUPPLEMENTARY INFORMATION:

Background

The Rural Utilities Service (RUS) published a Funding Opportunity Announcement (FOA) and solicitation of applications in the Federal Register on Thursday, December 12, 2019 (84 FR 67913), announcing its general policy and application procedures for funding under the broadband pilot program (ReConnect Program) established pursuant to the Consolidated Appropriations Act, 2018 (which became law on February 15, 2019). The ReConnect Program provides loans, grants, and loan/grant combinations to facilitate broadband deployment in rural areas. On Monday, March 30, 2020, the Agency published a notice in the Federal Register amending the FOA for the second round of the ReConnect Program to inform the public of an extension of the application window until April 15, 2020 (85 FR 17530).

Purpose of This Notice

On March 27, 2020, President Trump signed into law the Coronavirus Aid, Relief, and Economic Security Act (CARES Act). Section 11004 of the CARES Act provides an additional $100,000,000 for grants under the ReConnect Program to prevent, prepare for, and respond to the coronavirus. The additional funding remains available until September 30, 2021. The Agency will establish a set-aside for the $100 million for priority processing for applicants that submitted a 100% grant application during the first round of funding. For the application to be eligible for priority processing, the round one application must have been unsuccessful due to there being limited access to broadband in the proposed service area. Applicants are required to reapply during the second round of funding, which closes on April 15, 2020. The application must be for the same service area proposed by the applicant in the first round of funding to receive the prioritization, and the application must meet all other eligibility requirements. Applications already submitted during the second round of funding that meet these requirements will receive the priority consideration. The CARES Act also requires that at least 90 percent of the households to be served by a project receiving a grant shall be in a rural area without sufficient access to broadband. The CARES Act defines a rural area without sufficient access to broadband as 10 Mbps downstream and 1 Mbps upstream. This definition will be reevaluated and redefined, as necessary, on an annual basis by the Secretary of Agriculture. In accordance with the CARES Act, an entity to which a grant is made under the ReConnect Program shall not use a grant to overbuild or duplicate broadband expansion efforts made by any entity that has received a broadband loan from the Agency.

Chad Rupe,
Administrator, Rural Utilities Service.

[FR Doc. 2020-07741 Filed 4-8-20; 4:15 pm]

BILLING CODE P